ENVIRONMENTAL PROTECTION AGENCY

[EPA-HQ-OAR-2013-0146; FRL-9952-68-OAR]

Release of Draft Policy Assessment for the Review of the Primary National Ambient Air Quality Standards for Nitrogen Dioxide

AGENCY: Environmental Protection Agency (EPA).

ACTION: Notice of availability.

SUMMARY: The Environmental Protection Agency (EPA) is reviewing the primary National Ambient Air Quality Standards (NAAQS) for Nitrogen Dioxide (NO2). On or about September 23, 2016, the EPA will make available for public review the document titled Policy Assessment for the Review of the Primary National Ambient Air Quality Standards for Nitrogen Dioxide—External Review Draft (draft PA). This draft PA is intended to facilitate the Clean Air Scientific Advisory Committee's (CASAC's) advice and public input as part of the ongoing review of the primary NAAQS for NO2.

DATES: Comments should be received on or before December 8, 2016.

ADDRESSES: Submit your comments, identified by Docket ID No. EPA-HQ-OAR-2013-0146, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions, and general guidance on making effective comments, please visit http://www2.epa.gov/dockets/commenting-epa-dockets.

The draft PA will be available primarily via the Internet at http://www.epa.gov/ttn/naaqs/standards/nox/s_nox_index.html.

FOR FURTHER INFORMATION CONTACT: Dr. Jennifer Nichols, Office of Air Quality Planning and Standards, Mail Code C504-06, U.S. Environmental Protection Agency, Research Triangle Park, NC 27711; telephone number: 919-541-0708; fax number: 919-541-5315; email: nichols.jennifer@epa.gov.

SUPPLEMENTARY INFORMATION:

I. General Information

A. What should I consider as I prepare my comments for the EPA?

1. Submitting CBI. Do not submit this information to EPA through http://regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 Code of Federal Regulations (CFR) part 2.

2. Tips for Preparing your Comments. When submitting comments, remember to:

• Identify the notice by docket number and other identifying information (subject heading, Federal Register date and page number).

• Follow directions. The agency may ask you to respond to specific questions or organize comments by referencing a CFR part or section number.

• Explain why you agree or disagree; suggest alternative and substitute language for your requested changes.

• Describe any assumptions and provide any technical information and/or data that you used.

• If you estimate potential costs or burdens, explain how you arrived at your estimate in sufficient detail to allow for it to be reproduced.

• Provide specific examples to illustrate your concerns and suggest alternatives.

• Explain your views as clearly as possible, avoiding the use of profanity or personal threats.

• Make sure to submit your comments by the comment period deadline identified.

II. Information About the Document

Two sections of the Clean Air Act (CAA) govern the establishment and revision of the NAAQS. Section 108 (42 U.S.C. 7408) directs the Administrator to identify and list certain air pollutants and then to issue air quality criteria for those pollutants. The Administrator is to list those air pollutants that in her “judgment, cause or contribute to air pollution which may reasonably be anticipated to endanger public health or welfare;” “the presence of which in the ambient air results from numerous or diverse mobile or stationary sources;” and “for which * * * [the Administrator] plans to issue air quality criteria * * *.” Air quality criteria are intended to “accurately reflect the latest scientific knowledge useful in indicating the kind and extent of all identifiable effects on public health or welfare which may be expected from the presence of [a] pollutant in the ambient air * * * ” (42 U.S.C. 7408(b)). Under section 109 (42 U.S.C. 7409), the EPA establishes primary (health-based) and secondary (welfare-based) NAAQS for pollutants for which air quality criteria are issued. Section 109(d) requires periodic review and, if appropriate, revision of existing air quality criteria. The revised air quality criteria reflect advances in scientific knowledge on the effects of the pollutant on public health or welfare. The EPA is also required to periodically review and revise the NAAQS, if appropriate, based on the revised criteria. Section 109(d)(2) requires that an independent scientific review committee “shall complete a review of the criteria * * * and the national primary and secondary ambient air quality standards * * * and shall recommend to the Administrator any new * * * standards and revisions of the existing criteria and standards as may be appropriate * * *.” Since the early 1980s, this independent review function has been performed by the CASAC.

Presently, the EPA is reviewing the primary NAAQS for NO2. The first draft Integrated Science Assessment for Oxides of Nitrogen (Health Criteria) (ISA) was released on November 22, 2013 (78 FR 70040), and the draft Integrated Review Plan for the Primary NAAQS for Nitrogen Dioxide (IRP) was released on February 6, 2014 (79 FR 7184). Both documents were reviewed by the CASAC at a public meeting in March 2014, announced in a separate notice (79 FR 8701, February 13, 2014). The final IRP was released in June 2014 (79 FR 36801, June 30, 2014) and is available at http://www.epa.gov/ttn/naaqs/standards/nox/s_nox_2012_pd.html. The second draft ISA was made available to both the CASAC and the public (80 FR 5110, January 30, 2015), and was reviewed in addition to the Risk and Exposure Assessment Planning Document (REA Planning Document) (80 FR 27304, May 13, 2015) at a public meeting in June 2015 (80 FR 22993, April 24, 2015). The final ISA was then released in January 2016 (81 FR 4910, January 28, 2016) after taking into consideration the CASAC's advice and public comments.

The PA, when final, will serve to “bridge the gap” between the scientific information and the judgments required of the Administrator in determining whether to retain or revise the existing primary NAAQS for NO2, and, if revision is considered, what revisions may be appropriate. The draft PA announced today builds upon information presented in the final ISA and the REA Planning Document. The draft PA will be available on or about September 16, 2016, through the agency's Technology Transfer Network (TTN) Web site at https://www3.epa.gov/ttn/naaqs/standards/nox/s_nox_index.html.

The EPA is soliciting advice and recommendations from the CASAC by means of a review of this draft document at an upcoming public meeting of the CASAC, scheduled for November 9-10, 2016. Information about this public meeting will be published as a separate notice in the Federal Register. Following the CASAC meeting, the EPA will consider comments received from the CASAC and the public in preparing revisions to this document. The EPA will also consider public comments submitted in response to this notice when revising the document. Comments should be submitted to the docket, as described above. The document that is the subject of today's notice does not represent and should not be construed to represent any final EPA policy, viewpoint or determination.

Dated: September 15, 2016.
Stephen Page,
Director, Office of Air Quality Planning and Standards.

[FR Doc. 2016-22681 Filed 9-21-16; 8:45 am]

BILLING CODE 6560-50-P